DEPARTMENT OF DEFENSE

Office of the Secretary

[Docket ID: DoD-2020-OS-0068]

Submission for OMB Review; Comment Request

AGENCY: National Defense University, Department of Defense (DoD).

ACTION: 30-Day information collection notice.

SUMMARY: The DoD has submitted to OMB for clearance the following proposal for collection of information under the provisions of the Paperwork Reduction Act.

DATES: Consideration will be given to all comments received by December 17, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: College of International Security Affairs Out-Processing Information Form; OMB Control Number 0704-XXXX.

Type of Request: New.

Number of Respondents: 40.

Responses per Respondent: 1.

Annual Responses: 40.

Average Burden per Response: 10 minutes.

Annual Burden Hours: 6.7.

Needs and Uses: The information is needed for end-of-year event efforts (student-led symposium and graduation) as well as for the organization's alumni database. The collection is necessary to ensure accurate student data is in our records upon departure from the organization. The collection instrument verifies information such as correct title/rank, name spelling, country of origin, organization/branch of service, research paper title, if the student wishes to be involved in the organization's alumni network (yes/no response), personal contact information (phone number and email address), and career information (prior to joining organization and future career path after graduating). It is also utilized for alumni outreach and engagement. The data is shared with the appropriate persons—Thesis Director for symposium, Registrar for graduation, and Director of Outreach for alumni data.

Affected Public: Individuals and Households, Foreign Nationals.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: November 12, 2020.
Kayyonne T. Marston,
Alternate OSD Federal Register Liaison Officer, Department of Defense.

[FR Doc. 2020-25308 Filed 11-16-20; 8:45 am]

BILLING CODE 5001-06-P